DEPARTMENT OF LABOR

Office of the Secretary

Submission for OMB Review: Comment Request

November 19, 2009.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov.

Interested parties are encouraged to send comments to the Office of Information and Regulatory Affairs, Attn: OMB Desk Officer for the Department of Labor—ETA, Office of Management and Budget, Room 10235, Washington, DC 20503, Telephone: 202-395-7316/Fax: 202-395-5806 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Extension with change of a currently approved collection.

Title of Collection: Overpayment Detection and Recovery Activities.

OMB Control Number: 1205-0173.

Agency Form Number: ETA-227.

Affected Public: State Governments.

Total Estimated Number of Respondents: 53.

Total Estimated Annual Burden Hours: 2,968.

Total Estimated Annual Costs Burden (does not include hour costs): $0.

Description: The Secretary interprets applicable sections of Federal law to require States to address the prevention, detection, and recovery of benefit overpayments caused by willful misrepresentation of errors by claimants or others. The report provides an accounting of the types and amounts of such overpayments and serves as a useful management tool for monitoring overall integrity in the Unemployment Insurance system. For additional information, see related notice published at 74 FR 44385 on August 28, 2009.

Agency: Employment and Training Administration.

Type of Review: Extension with change of a currently approved collection.

Title of Collection: Investigative Data Collection Requirements for the Trade Act of 1974 as amended by the Trade and Globalization Adjustment Assistance Act of 2009.

OMB Control Number: 1205-0342.

Agency Form Numbers: ETA-9042; ETA-9042a; ETA-8562a1; ETA-8562A; ETA-8562B; ETA-9118; ETA-9043A; and ETA-9043B.

Affected Public: Individuals or Households; Businesses or other for-profits; and State, Local, or Tribal Governments.

Total Estimated Number of Respondents: 6,916.

Total Estimated Annual Burden Hours: 17,883.

Total Estimated Annual Costs Burden (does not include hour costs): $0.

Description: Section 221(a) of Title II, Chapter 2 of the Trade Act of 1974, as amended by the Trade and Globalization Adjustment Assistance Act of 2009, authorizes the Secretary of Labor and the Governor of each State to accept petitions for certification of eligibility to apply for adjustment assistance. The Forms ETA 9042A, Petition for Trade Adjustment Assistance and Alternative Trade Adjustment Assistance, and its Spanish translation, Form 9042a-1, Solicitud De Asistencia Para Ajuste, establish a format that may be used for filing such petitions. The Department's regulations regarding petitions for worker adjustment assistance may be found at 29 CFR 90. The Forms ETA 9043a, Business Confidential Data Request, ETA 8562a, Business Confidential Customer Survey and ETA 9118, Business Confidential Non-Production Questionnaire are undertaken in accordance with Sections 222, 223 and 249 of the Trade Act of 1974, as amended by the Trade and Globalization Adjustment Assistance Act of 2009, are used by the Secretary of Labor to certify groups of workers as eligible to apply for worker trade adjustment assistance. For additional information, see related notice published at 74 FR 28955 on June 18, 2009.

Agency: Employment and Training Administration.

Type of Review: Extension without change of a currently approved collection.

Title of Collection: Reporting and Performance Standards System for Migrant and Seasonal Farmworker Programs Under Title I, Section 167 of the Workforce Investment Act (WIA).

OMB Control Number: 1205-0425.

Agency Form Numbers: ETA-9093; ETA-9094; and ETA-9095.

Affected Public: State Governments.

Total Estimated Number of Respondents: 53.

Total Estimated Annual Burden Hours: 70,562.

Total Estimated Annual Costs Burden (does not include hour costs): $0.

Description: This collection of information relates to the operation of employment and training programs for Migrant and Seasonal Farmworkers under title I, section 167 of the Workforce Investment Act (WIA). It also contains the basis of the performance standards system for WIA section 167 grantees, which is used for program oversight, evaluation and performance assessment. For additional information, see related notice published at 74 FR 43159 on August 26, 2009.

Agency: Employment and Training Administration.

Type of Review: Extension without change of a currently approved collection.

Title of Collection: Pell Grants and the Payment of Unemployment Benefits to Individuals in Approved Training.

OMB Control Number: 1205-0473.

Agency Form Number: N/A.

Affected Public: State Governments.

Total Estimated Number of Respondents: 53.

Total Estimated Annual Burden Hours: 265.

Total Estimated Annual Costs Burden (does not include hour costs): $0.

Description: The Administration seeks to enable more individuals to obtain job training while receiving unemployment benefits, so they can develop their skills while the economy recovers. Therefore states, as third party disseminators, are strongly encouraged to notify unemployed individuals of their potential eligibility for Pell Grants. For additional information, see related notice published at 74 FR 49401 on September 27, 2009.

Agency: Employment and Training Administration.

Type of Review: Extension without change of a currently approved collection.

Title of Collection: Collecting Aggregate Participant Counts for Workforce Investment Act (WIA) Title 1B, Wagner-Peyser Act, National Emergency Grants, and Reemployment Services Grants.

OMB Control Number: 1205-0474.

Agency Form Number: ETA-9147; ETA-9148; and ETA-9149.

Affected Public: State Governments.

Total Estimated Number of Respondents: 54.

Total Estimated Annual Burden Hours: 614,632.

Total Estimated Annual Costs Burden (does not include hour costs): $0.

Description: This request is to extend OMB approval for a collection previously approved on an emergency basis which both modified the frequency of reporting and requests the collection of an additional data element contained in the following two performance-related data instruments: (1) OMB Control Number 1205-0420—Workforce Investment Act (WIA), Title I Adult, Dislocated Worker and Youth Activities Programs. This control number includes the following ETA forms: (A) Workforce Investment Act Annual Report—ETA form 9091, (B) Workforce Investment Act Quarterly Report—ETA Form 9090, and (C) Workforce Investment Act Standardized Record Data—WIASRD. and (2) from OMB control number 1205-0240, ETA 9002 A-E and VETS 200 A-C. For additional information, see related notice published at 74 FR 28553 on June 16, 2009.

Darrin A. King,
Departmental Clearance Officer.

[FR Doc. E9-28499 Filed 11-27-09; 8:45 am]

BILLING CODE 4510-FW-P